FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

LICENSE NUMBER: 2242F.

NAME: Carlos E. Plazas dba Plazas International Company.

ADDRESS: 825 College Blvd., Suite 416, Oceanside, CA 92057.

DATE REVOKED: July 6, 2010.

REASON: Surrendered license voluntarily.

LICENSE NUMBER: 2380F.

NAME: HAV International Freight Corp.

ADDRESS: JKF International Airport, Bldg. 75, Jamaica, NY 11430.

DATE REVOKED: May 3, 2010.

REASON: Failed to maintain a valid bond.

LICENSE NUMBER: 002638F.

NAME: Intercorp Forwarders, Ltd.

ADDRESS: 167 Maple Avenue, Sea Cliff, NY 11579.

DATE REVOKED: May 5, 2010.

REASON: Failed to maintain a valid bond.

LICENSE NUMBER: 2866F.

NAME: Jong Pyo Kim.

ADDRESS: 17100 Pioneer Blvd., Suite 345, Artesia, CA 90701.

DATE REVOKED: June 16, 2010.

REASON: Failed to maintain a valid bond.

LICENSE NUMBER: 003095N.

NAME: Flamingo International, Inc.

ADDRESS: 7185 NW 87th Avenue, Miami, FL 33178.

DATE REVOKED: May 1, 2010.

REASON: Failed to maintain a valid bond.

LICENSE NUMBER: 3298F.

NAME: Rical Express, Inc.

ADDRESS: 1550 E. Higgins Road, Suite 129, Elk Grove Village, IL 60007.

DATE REVOKED: May 25, 2010.

REASON: Surrendered License Voluntarily.

LICENSE NUMBER: 3713F.

NAME: Fresh Commodities Carrier, Inc.

ADDRESS: 11942 Reagan Street, Los Alamitos, CA 90720.

DATE REVOKED: May 21, 2010.

REASON: Failed to maintain a valid bond.

LICENSE NUMBER: 3782F.

NAME: Meyer Shipping Corp.

ADDRESS: 1733 49th Street, Brooklyn, NY 11204.

DATE REVOKED: May 5, 2010.

REASON: Failed to maintain a valid bond.

LICENSE NUMBER: 4141F.

NAME: Barnett Trading, Inc.

ADDRESS: 217 Humphrey Street, Marblehead, MA 01945.

DATE REVOKED: May 20, 2010.

REASON: Failed to maintain a valid bond.

LICENSE NUMBER: 004309F.

NAME: East West North South Forwarding, Inc.

ADDRESS: 3511 NW 113th Court, Miami, FL 33178.

DATE REVOKED: May 21, 2010.

REASON: Failed to maintain a valid bond.

LICENSE NUMBER: 4373F.

NAME: Elite Airfreight, Inc.

ADDRESS: 16303 Air Center Blvd., Houston, TX 77032.

DATE REVOKED: May 16, 2010.

REASON: Failed to maintain a valid bond.

LICENSE NUMBER: 004482NF.

NAME: Glodex, Corp.

ADDRESS: 7249 NW 54th Street, Miami, FL 33166.

DATE REVOKED: June 27, 2010.

REASON: Failed to maintain valid bonds.

LICENSE NUMBER: 004662N.

NAME: Sanyo Logistics Corporation.

ADDRESS: 3625 Del Amo Blvd., Suite 105, Torrance, CA 90503.

DATE REVOKED: June 7, 2010.

REASON: Failed to maintain a valid bond.

LICENSE NUMBER: 10509N.

NAME: Rical Container Line, Ltd. (USA).

ADDRESS: 1550 E. Higgins Road. Suite 129, Elk Grove Village, IL 60007.

DATE REVOKED: May 25, 2010.

REASON: Surrendered License Voluntarily.

LICENSE NUMBER: 013604N.

NAME: Carlos B. Sanchez dba R & S Trading.

ADDRESS: Lerida 310, Urb Valencia, Rio Piedras, PR 00924.

DATE REVOKED: June 3, 2010.

REASON: Failed to maintain a valid bond.

LICENSE NUMBER: 015941F.

NAME: Cargo Plus, Inc.

ADDRESS: 8333 Wessex Drive, Pennsauken, NJ 08109.

DATE REVOKED: June 23, 2010.

REASON: Failed to maintain a valid bond.

LICENSE NUMBER: 16283N.

NAME: Sea Air Surface Distribution, Inc.

ADDRESS: 2018 Mount Forest Drive, Kingwood, TX 78521.

DATE REVOKED: May 30, 2010.

REASON: Failed to maintain a valid bond.

LICENSE NUMBER: 17860N.

NAME: Remnant Shipping, Inc.

ADDRESS: 16921 S. Western Avenue, Suite 205, Gardena, CA 90247.

DATE REVOKED: June 26, 2010.

REASON: Failed to maintain a valid bond.

LICENSE NUMBER: 18012F.

NAME: Speedex Air & Ocean, Inc.

ADDRESS: 13337 South Street, Suite 34, Cerritos, CA 90703.

DATE REVOKED: June 14, 2010.

REASON: Failed to maintain a valid bond.

LICENSE NUMBER: 018268N.

NAME: Duncan B. Greenwood dba G&F West Indies Shipping.

ADDRESS: 1416 Bluehill Avenue, Suite 1, Boston, MA 02126.

DATE REVOKED: June 24, 2010.

REASON: Failed to maintain a valid bond.

LICENSE NUMBER: 018305N.

NAME: Mc Logix, Inc.

ADDRESS: 18030 S. Figueroa Street, Gardena, CA 90248.

DATE REVOKED: June 9, 2010.

REASON: Failed to maintain a valid bond.

LICENSE NUMBER: 018443N.

NAME: State Street Shipping Agency, Inc. dba Sabrina Shipping.

ADDRESS: One Saint Louis Centre, Suite 3002, Mobile, AL 36602

DATE REVOKED: June 17, 2010.

REASON: Failed to maintain a valid bond.

LICENSE NUMBER: 018486N.

NAME: AAA Cargo LLC.

ADDRESS: 14536 Roscoe Blvd., Suite 101, Panorama City, CA 91402.

DATE REVOKED: June 26, 2010.

REASON: Failed to maintain a valid bond.

LICENSE NUMBER: 18547N.

NAME: Pallets in Motion.

ADDRESS: 426 W. Florence Avenue, Inglewood, CA 90301.

DATE REVOKED: June 26, 2010.

REASON: Failed to maintain a valid bond.

LICENSE NUMBER: 018798N.

NAME: Beyond Shipping, Inc.

ADDRESS: 721 Brea Canyon Road, Suite 4, Walnut, CA 91789.

DATE REVOKED: June 14, 2010.

REASON: Failed to maintain a valid bond.

LICENSE NUMBER: 019014N.

NAME: Ni Midstar, LLC.

ADDRESS: 370 W. Anchor Dr., #210, Dakota Dunes, SD 57049.

DATE REVOKED: June 17, 2010.

REASON: Surrendered license voluntarily.

LICENSE NUMBER: 019125N.

NAME: Monumental Shipping & Moving Corp.

ADDRESS: 103-10 Astoria Blvd., East Elmhurst, NY 11369.

DATE REVOKED: June 8, 2010.

REASON: Surrendered license voluntarily.

LICENSE NUMBER: 019371N.

NAME: Ridge International Freight, Ltd. dba RIF Line.

ADDRESS: 19707 44th Avenue, Suite 207-A, Lynnwood, WA 98036.

DATE REVOKED: June 18, 2010.

REASON: Failed to maintain a valid bond.

LICENSE NUMBER: 019373NF.

NAME: SYL Cargo USA, Inc.

ADDRESS: 8513 NW 72nd Street, Miami, FL 33166.

DATE REVOKED: June 16, 2010.

REASON: Failed to maintain valid bonds.

LICENSE NUMBER: 019607F.

NAME: Carolina Forwarding & Brokerage, LLC.

ADDRESS: 3220 Carmel Bay Drive, Mount Pleasant, SC 29466.

DATE REVOKED: June 17, 2010.

REASON: Surrendered License Voluntarily.

LICENSE NUMBER: 020242F.

NAME: Journey Moving and Storage Corp dba International Sea & Air.

ADDRESS: 21-A Progress Street, Edison, NJ 08820.

DATE REVOKED: June 19, 2010.

REASON: Failed to maintain a valid bond.

LICENSE NUMBER: 020151F.

NAME: United Global Logistics, LLC.

ADDRESS: 1139 E. Jersey Street, Suite 417, Elizabeth, NJ 07208.

DATE REVOKED: May 27, 2010.

REASON: Failed to maintain a valid bond.

LICENSE NUMBER: 020436N.

NAME: Asia Forwarders, Inc.

ADDRESS: 13434 Village Drive, Cerritos, CA 90703.

DATE REVOKED: June 18, 2010.

REASON: Failed to maintain a valid bond.

LICENSE NUMBER: 020482N.

NAME: AA Connection, LLC.

ADDRESS: 12810 NE 178th Street, Suite 235, Woodinville, WA 98072.

DATE REVOKED: June 18, 2010.

REASON: Surrendered License Voluntarily.

LICENSE NUMBER: 020802NF.

NAME: Michael McGovern dba Scotia Ocean Services, Ltd.

ADDRESS: 15925 Morales Road, Suite A-200, Houston, TX 77032.

DATE REVOKED: May 7, 2010.

REASON: Failed to maintain valid bonds.

LICENSE NUMBER: 020821NF.

NAME: Gold Coast Shipping, LLC.

ADDRESS: 2964 Main Street, Hartford, CA 06120.

DATE REVOKED: June 11, 2010.

REASON: Failed to maintain valid bonds.

LICENSE NUMBER: 020890N.

NAME: Aegis International, Inc.

ADDRESS: 300 Sunset Road, Suite 301, Burlington TWP, NJ 08016.

DATE REVOKED: May 6, 2010.

REASON: Failed to maintain a valid bond.

LICENSE NUMBER: 021623F.

NAME: Victory Worldwide Inc.

ADDRESS: 1500 Midway Court, Suite W-104, Elk Grove Village, IL 60007.

DATE REVOKED: May 15, 2010.

REASON: Failed to maintain a valid bond.

LICENSE NUMBER: 021286F.

NAME: Elzado Enterprises Incorporated.

ADDRESS: 14940 Grant Lane, Leisure City, FL 33033

DATE REVOKED: June 7, 2010.

REASON: Failed to maintain a valid bond.

LICENSE NUMBER: 021354NF.

NAME: Jaemar International Inc.

ADDRESS: 6420 Richmond Avenue, Houston, TX 77057

DATE REVOKED: June 25, 2010.

REASON: Failed to maintain valid bonds.

LICENSE NUMBER: 021385NF.

NAME: CJ GLS America, Inc.

ADDRESS: 404 Foxrun Avenue, Opelika, AL 36801

DATE REVOKED: May 14, 2010.

REASON: Failed to maintain valid bonds.

LICENSE NUMBER: 021472F.

NAME: Sunstar Forwarding, Inc.

ADDRESS: 445 Grayrock Drive, Crozet, VA 22932

DATE REVOKED: May 7, 2010.

REASON: Failed to maintain a valid bond.

LICENSE NUMBER: 021494NF.

NAME: Anchor Advantage, LLC.

ADDRESS: 15 West Cranberry Lane, Greenville, SC 29615.

DATE REVOKED: June 24, 2010.

REASON: Surrendered License Voluntarily.

LICENSE NUMBER: 021586N.

NAME: Chronos International Cargo Corp.

ADDRESS: 6030 NW 99th Avenue, Suite 407, Doral, FL 33178.

DATE REVOKED: May 12, 2010.

REASON: Failed to maintain a valid bond.

LICENSE NUMBER: 021740NF.

NAME: Dart Express (SFO), LLC.

ADDRESS: 5101 South Broad Street.

DATE REVOKED: July 2, 2010.

REASON: Surrendered License Voluntarily.

LICENSE NUMBER: 021741N.

NAME: Dart Express (LAX), LLC.

ADDRESS: 5101 South Broad Street, Philadelphia, PA 19112.

DATE REVOKED: July 2, 2010.

REASON: Surrendered License Voluntarily.

LICENSE NUMBER: 021792N.

NAME: TSL International Inc.

ADDRESS: 136 Bay 14th Street, Brooklyn, NY 11214.

DATE REVOKED: May 1, 2010.

REASON: Failed to maintain a valid bond.

LICENSE NUMBER: 021802N.

NAME: J & D America Inc.

ADDRESS: 248 West 35th Street, New York, NY 10001

DATE REVOKED: June 11, 2010.

REASON: Failed to maintain a valid bond.

LICENSE NUMBER: 021809F.

NAME: Mark VII ETS, LLC.

ADDRESS: 328 Office Square Lane, Suite 201, Virginia Beach, VA 23462.

DATE REVOKED: May 9, 2010.

REASON: Failed to maintain a valid bond.

LICENSE NUMBER: 022027NF.

NAME: AGL Logistics Inc.

ADDRESS: 1255 Corporate Center Drive, Suite 101, Montery Park, CA 91754.

DATE REVOKED: June 23, 2010.

REASON: Failed to maintain valid bonds.

LICENSE NUMBER: 022112N.

NAME: Overseas Shipping Ltd.

ADDRESS: 2914 North Calvert Street, Baltimore, MD 21218.

DATE REVOKED: June 21, 2010.

REASON: Surrendered License Voluntarily.

LICENSE NUMBER: 022183NF.

NAME: Express Logistics Group, Inc.

ADDRESS: 14439 South Avalon Blvd., Gardena, CA 90248

DATE REVOKED: July 2, 2010.

REASON: Surrendered License Voluntarily.

Sandra L. Kusumoto,
Director, Bureau of Certification and Licensing.

[FR Doc. 2010-18530 Filed 7-27-10; 8:45 am]

BILLING CODE 6730-01-P